NATIONAL SCIENCE FOUNDATION

Proposal Review Panel for Human Resource Development; Notice of Meeting

In accordance with the Federal Advisory Committee Act (Pub. L. 92-463, as amended), the National Science Foundation announces the following meeting:

Name: ADVANCE Institutional Transformation Site Visit; Proposal Review Panel Human Resource Development (#1199).

Date/Time:

November 1, 2011; 5 p.m. to 10 p.m.

November 2-3, 2011; 8:30 a.m. to 6 p.m.

Place: Purdue University, West Lafayette, IN 47907.

Type of Meeting: Part-Open.

Contact Person: Kelly Mack, Division of Human Resource Development, Room 815, National Science Foundation, Arlington, VA (703) 292-8575.

Purpose of Meeting: NSF site visit to conduct a renewal review during year 3 of the award period as stipulated in the cooperative agreement.

Agenda: To conduct an in depth evaluation of performance, to assess progress towards goals, and to provide recommendations.

Tuesday, November 1

5 p.m.-10 p.m. Closed—Executive Session.

Wednesday, November 2

8:30 a.m.—12 Noon Open—Program Presentation.

1 p.m.—6 p.m. Closed—Interviews with Selected Institutional Staff.

Thursday, November 3

8:30 a.m.—12 Noon Closed—Interviews with Selected Institutional Staff.

1 p.m.—6 p.m. Closed—Executive Session, review and drafting site visit report.

Reason For Closing: Topics to be discussed and evaluated during the site review will include information of a proprietary or confidential nature, including technical information; and information on personnel. These matters are exempt under 5 U.S.C. 552b(c)(4) and (6) of the Government Sunshine Act.

Dated: September 27, 2011.
Susanne Bolton,
Committee Management Officer.

[FR Doc. 2011-25209 Filed 9-29-11; 8:45 am]

BILLING CODE 7555-01-P